DEPARTMENT OF DEFENSE

Department of the Army

Prospective Grant of Exclusive Patent License

AGENCY: U.S. Army Soldier and Biological Chemical Command, U.S. Army, DoD.

ACTION: Notice.

SUMMARY: In accordance with the provisions of 35 U.S.C. 209(c)(1) and 37 CFR Part 404.7(a)(1)(i), SBCCOM hereby gives notice that it is contemplating the grant of an exclusive license in the United States to practice the invention embodied in U.S. Provisional Patent Application 60/184,376 entitled: “Automated Decision-Aid System for Hazardous Incidents (ADASHI)” to Optimetrics, Inc.

The Automated Decision-Aid System for Hazardous Incidents (ADASHI) is a unique computer-based integrated decision-aid support system for improving tactical response to a hazardous incident. ADASHI effectively integrates the specific technical functions required to control a hazardous event involving chemical, biological or radiological (CBR) materials. ADASHI will automatically monitor most aspects of the CBR event, whether it be a “What if?” simulated event for training purposes or a real event. ADASHI can also be utilized as an “over the shoulder” decision-support system to aid incident commanders in making better, more timely decisions by rapidly processing the multi-variant input data and providing critical information to that commander in a high-stress environment.

FOR FURTHER INFORMATION CONTACT: Mr. Bob Gross, Technology Transfer Office, U.S. Army SBCCOM, ATTN: AMSSB-RAS-C, 5183 Blackhawk Road (Bldg E3330/245), APG MD 21010-5423; Phone: (410) 436-5387 or E-mail: rigross@sbccom.apgea.army.mil.

SUPPLEMENTARY INFORMATION: The prospective exclusive license will be royalty bearing and will comply with the terms and conditions of 35 U.S.C. 209 and 37 CFR 404.7. The prospective exclusive license may be granted, unless within sixty days from the date of this published Notice, SBCCOM receives written evidence and argument to establish that the grant of the license would not be consistent with the requirements of 35 U.S.C. 209 and 37 CFR 404.7.

Gregory D. Showalter,
Army Federal Register Liaison Officer.

[FR Doc. 00-19797 Filed 8-3-00; 8:45 am]

BILLING CODE 3710-08-M